DEPARTMENT OF ENERGY

Federal Energy Regulatory Commission

Notice of Intent To Prepare an Environmental Impact Statement and Notice of Scoping Meetings and Site Visit and Soliciting Scoping Comments

October 4, 2001.

Take notice that the following hydroelectric applications have been filed with Commission and are available for public inspection:

a. Type of Application: New Major License.

b. Project No.: 2030-036.

c. Date filed: June 29, 2001.

d. Applicants: Portland General Electric Company (PGE) and the Confederated Tribes of the Warm Springs Reservation of Oregon (CTWS).

e. Name of Project: Pelton Round Butte Hydroelectric Project.

f. Location: The project is located on the Deschutes River in Jefferson, Marion, and Wasco Counties, Oregon. The project occupies lands of the Deschutes National Forest; Mt Hood National Forest; Willamette National Forest; Crooked River National Grassland; Bureau of Land Management; and tribal lands of the Warm Springs Reservation of Oregon.

g. Filed Pursuant to: Federal Power Act, 16 U.S.C. 791(a)-825(r).

h. Applicant Contacts: Julie Keil, Director, Hydro Licensing, Portland General Electric Company, 121 SW Salmon Street, Portland, OR 97204, (503) 464-8864; and James Manion, General Manager, Warm Springs Power Enterprises, P.O. Box 690, Warm Springs, OR 97761, (541) 553-1046.

i. FERC Contact: Any questions on this notice should be addressed to Nan Allen at (202) 219-2839. E-mail address: nan.allen@ferc.fed.us.

j. Deadline for filing scoping comments: December 7, 2001.

All documents (original and eight copies) should be filed with: David P. Boergers, Secretary, Federal Energy Regulatory Commission, 888 First Street, NE., Washington, DC 20426. Scoping Comments, protests and interventions may be filed electronically via the Internet in lieu of paper. See, 18 CFR 385.2001(a)(1)(iii) and the instructions on the Commission's web site under the “e-Filing” link.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The Round Butte development works consisting of: (1) The 440-foot-high, 1,382-foot-long Round Butte dam; (2) a 535,000-acre-foot reservoir with a normal pool elevation at 1,945.0 feet mean sea level (msl); (3) a spillway intake structure topped with a 30-foot-high, 36-foot-wide radial gate, and a 1,800-foot-long, 21-foot-diameter spillway tunnel; (4) an 85-foot-long, varying in height and width, powerhouse intake structure; (5) a 1,425-foot-long, 23-foot-diameter power tunnel; (6) a powerhouse containing three turbine generating units with a total installed capacity of 247 megawatts (MW); (7) a 12.5-kilovolt (kV), 10.5-mile-long transmission line extending to the Reregulating dam, and a 230-kV, 100-mile-long transmission line extending to Portland General's Bethel substation; and (8) appurtenant facilities.¹

¹ On July 25, 2001, an amendment to the current license was approved that would add one 70-kilowatt (kW) turbine generating unit with associated support structure at the Round Butte powerhouse. This turbine has not yet been installed.

The Pelton development consists of: (1) The 204-foot-high, 636-foot-long thin-arch variable-radius reinforced concrete Pelton dam with a crest elevation 1,585 feet msl; (2) a reinforced concrete spillway on the left bank with a crest elevation of 1,558 feet msl; (3) Lake Simtustus with a gross storage capacity of 31,000 acre-feet and a normal maximum surface area of 540 acres at normal maximum water surface elevation of 1,580 feet msl; (4) an intake structure at the dam; (5) three 16-foot-diameter penstocks, 107 feet long, 116 feet long, and 108 feet long, respectively; (6) a powerhouse with three turbine/generator units with a total installed capacity of 108 MW; (7) a tailrace channel; (8) a 7.9-mile-long, 230-kV transmission line from the powerhouse to the Round Butte switchyard; and (9) other appurtenances.

The Reregulating development consists of: (1) The 88-foot-high, 1,067-foot-long concrete gravity and impervious core rockfilled Reregulating dam with a spillway crest elevation of 1,402 feet msl; (2) a reservoir with a gross storage capacity of 3,500 acre feet and a normal maximum water surface area of 190 acres at normal maximum water surface elevation of 1,435 feet msl; (3) a powerhouse at the dam containing a 18.9-MW turbine/generator unit; (4) a tailrace channel; (5) a 3.2-mile-long, 69-kV transmission line from the development to the Warm Springs substation; and (6) other appurtenances.

The project is estimated to generate an average of 1.613 billion kilowatthours annually. The dams and existing project facilities are owned by the co-applicants.

m. A copy of the application is on file with the Commission and is available for public inspection. This filing may also be viewed on the Web at http://www.ferc.gov using the “RIMS” link—select “Docket#” and follow the instructions (call 202-208-2222 for assistance). A copy is also available for inspection and reproduction at the address in item h above.

n. Scoping Process.

The Commission intends to prepare an Environmental Impact Statement (EIS) on the project in accordance with the National Environmental Policy Act. The EIS will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EIS. The times and locations of these meetings are as follows:

Daytime Meeting

Wednesday, November 7, 2001, 9:00 a.m., Maccie Conroy Center, Jefferson County Fair Complex, 430 SW Fairgrounds Road, Madras, Oregon

Evening Meeting

Wednesday, November 7, 2001, 7 p.m., Kah-Nee-Ta Resort, Highway 8, Warm Springs, Oregon

Copies of the Scoping Document (SD1) outlining the subject areas to be addressed in the EIS were distributed to the parties on the Commission's mailing list. Copies of the SD1 will be available at the scoping meeting or may be viewed on the Web at http://www.ferc.gov using the “RIMS” link, select “Docket#” and follow the instructions (call 202-208-2222 for assistance).

Site Visit

The applicants and Commission staff will conduct a project site visit beginning at 8:30 a.m. on November 6, 2001. All interested individuals, organizations, and agencies are invited to attend. All participants should meet at the Round Butte Overlook Park. All participants are responsible for their own transportation to the site. Anyone with questions about the site visit should contact Marty May, PGE, at phone 503-464-7578 or FAX 503-464-2944 by Wednesday, October 31.

Objectives

At the scoping meetings, the Commission staff will: (1) Summarize the environmental issues tentatively identified for analysis in the EIS; (2) solicit from the meeting participants all available information, especially quantifiable data, on the resources at issue; (3) encourage statements from experts and the public on issues that should be analyzed in the EIS, including viewpoints in opposition to, or in support of, the staff's preliminary views; (4) determine the resource issues to be addressed in the EIS; and (5) identify those issues that require a detailed analysis, as well as those issues that do not require a detailed analysis.

Procedures

The meetings are recorded by a stenographer and become part of the formal record of the Commission proceeding on the project.

Individuals, organizations, and agencies with environmental expertise and concerns are encouraged to attend one or both of the meetings and to assist the staff in defining and clarifying the issues to be addressed in the EIS.

David P. Boergers,
Secretary.

[FR Doc. 01-25494 Filed 10-10-01; 8:45 am]

BILLING CODE 6717-01-P